DEPARTMENT OF AGRICULTURE

Forest Service

Dakota Prairie Grasslands, North Dakota; Oil and Gas Development Supplemental Environmental Impact Statement

AGENCY: Forest Service, USDA.

ACTION: Revised notice of intent to prepare a supplemental environmental impact statement.

SUMMARY: In June of 2003, the Dakota Prairie Grasslands (DPG) Record of Decision (ROD) for Oil and Gas Leasing on the Little Missouri and Cedar River National Grasslands was signed by the Forest Service and Bureau of Land Management (BLM). The ROD identified lands open for lease, including areas subject to leasing stipulations to protect Dakota Prairie Grassland resources and uses. The ROD was based upon the environmental review completed for the 2001 Northern Great Plains Management Plans Revision.

In the 14 years since the previous analysis was completed there has been new information and changed circumstances that warrant environmental analysis to see what, if any, changes need to be made to the DPG's and BLM's decisions about oil and gas leasing and whether or not there is a need to change DPG's Land and Resource Management Plan direction relative to oil and gas development on the Little Missouri National Grassland unit of the Dakota Prairie Grasslands. New information and changed circumstances include a change in the manner and pace of oil and gas development and the listing of the Dakota Skipper and Northern Long-Eared Bat as threatened species under the Endangered Species Act (ESA).

DATES: Comments concerning the scope of the analysis must be received by October 1, 2015. The draft supplemental environmental impact statement is expected in November, 2015 and the final supplemental environmental impact statement (SEIS) is expected in February, 2016.

ADDRESSES: Send written comments to Dakota Prairie Grasslands, ATTN: Oil and Gas Development SEIS, 2000 Miriam Circle, Bismarck, ND 58501. Comments may also be sent via email to comments-northern-dpg@fs.fed.us, or via facsimile to 701-989-7299.

FOR FURTHER INFORMATION CONTACT: Karen Dunlap, Resources Staff Officer, at 2000 Miriam Circle, ND 58501, by email at kdunlap@fs.fed.us or by phone at 701-989-7304.

Individuals who use telecommunication devices for the deaf (TDD) may call the Federal Information Relay Service (FIRS) at 1-800-877-8339 between 8 a.m. and 8 p.m., Eastern Time, Monday through Friday.

SUPPLEMENTARY INFORMATION:

Purpose and Need for Action

Given that new circumstances or information may have a bearing on oil and gas leasing on the DPG, there is a need for the DPG and BLM to supplement their analysis to document changes since the 2003 Record of Decision. The purpose of the analysis is to disclose the environmental effects of the changed circumstances and analyze whether or not any different management direction and/or leasing stipulations are necessary to protect National Forest System lands.

Proposed Action

The Dakota Prairie Grasslands is proposing to reevaluate the impacts of the activities permitted in the current Land and Resources Management Plan (LRMP) to determine if current circumstances have changed the effects. Preliminary internal scoping indicates that existing federal oil and gas operating regulations, current LRMP standards and guidelines, and existing lease stipulations provide the Forest Service with adequate authority to mitigate the effects of reasonably foreseeable oil and gas development that may occur on future federal leases. Consistent with 40 CFR 1502.9(2), the DPG will supplement the 2001 final EIS (FEIS) to consider new information and changed circumstances, including changes in the manner in which oil and gas is being developed in North Dakota. The Forest Service and BLM are in the process of updating the reasonably foreseeable oil and gas development scenario (RFDS) which serves as the basis for effects analysis in the SEIS. When completed, the updated RFDS will be available by request at the address below or online at: http://www.fs.fed.us/nepa/fs-usda-pop.php/?project=40652.

Lead and Cooperating Agencies

The USDA Forest Service is the lead federal agency for the preparation of the SEIS and meeting the requirements of the National Environmental Policy Act (NEPA). The preparation of the SEIS will be coordinated with the BLM which will be a cooperating agency.

Responsible Official

Forest Service will be the lead agency for the SEIS. BLM will be a cooperating agency. Dennis Neitzke, Grasslands Supervisor, Dakota Prairie Grasslands, 2000 Miriam Circle, Bismarck, ND 58501 is the responsible official for deciding whether or not changes are necessary to the Forest Service's 2003 decision regarding oil and gas leasing. Jamie Connell, BLM State Director, Montana State Office, is the responsible official for actions and decisions related to BLM's adoption of the SEIS and offering lands for federal leasing.

Nature of Decision To Be Made

Based on the Supplemental EIS, the Grasslands Supervisor will decide whether or not changes need to be made to the 2003 leasing decision and whether the current Dakota Prairie Grasslands LRMP direction needs amendment. The BLM may adopt the SEIS to support its decision to offer lands for federal oil and gas leasing.

Scoping Process

This revised notice of intent initiates a scoping process, which guides the development of the supplemental environmental impact statement. Of particular use are specific concerns that can help us focus our analysis relative to the effects of reasonably foreseeable development of the oil and gas resource underlying the Dakota Prairie Grasslands.

It is important that reviewers provide their comments at such times and in such manner that they are useful to the agency's preparation of the supplemental environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: August 26, 2015.
Dennis Neitzke,
Forest Supervisor.

[FR Doc. 2015-21688 Filed 8-31-15; 8:45 am]

BILLING CODE 3411-15-P